DEPARTMENT OF TRANSPORTATION

Federal Aviation Administration

Forty Sixth RTCA SC-206 Aeronautical Information and Meteorological Data Link Services Plenary

AGENCY: Federal Aviation Administration (FAA), U.S. Department of Transportation (DOT).

ACTION: Forty Sixth RTCA SC-206 Aeronautical Information and Meteorological Data Link Services Plenary.

SUMMARY: The FAA is issuing this notice to advise the public of a meeting of Forty Sixth RTCA SC-206 Aeronautical Information and Meteorological Data Link Services Plenary.

DATES: The meeting will be held December 12-16, 2016 from 08:30 a.m.-04:30 p.m.

ADDRESSES: The meeting will be held at: RTCA Headquarters, 1150 18th Street NW., Suite 910, Washington, DC 20036.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Forty Sixth RTCA 206 Aeronautical Information and Meteorological Data Link Services Plenary. The agenda will include the following:

Monday, December 12, 2016—8:30 a.m.-1:30 p.m.

1. Opening remarks: DFO, RTCA, Chairman, and Host

2. Attendees' introductions

3. Review and approval of meeting agenda

4. Approval of previous meeting minutes (Kansas City)

5. Action item review

6. Sub-Groups reports

a. SG1: ISRA Status & Inter SC Coordination Update

b. SG4: EDR MOPS

c. SG5: FIS-B MOPS

7. Discussion with WG-76 on combining efforts

8. Industry presentations

a. CSS-Wx and NWP

b. EDR Algorithm Performance Standards Recommendation Team Update—Mike Emanuel, FAA

c. FIS-B UAT Design Presentation—Harris

9. SG7 Winds Guidance review for FRAC release

Tuesday, December 13, 2016—8:30 a.m.-5:00 p.m.

1. Sub-Groups Meetings

Wednesday, December 14, 2016—8:30 a.m.-5:00 p.m.

1. Sub-Groups Meetings

Thursday, December 15, 2016—8:30 a.m.-5:00 p.m.

1. Sub-Groups Meetings

Friday, December 16, 2016—8:30 a.m.-11:00 a.m.

1. Closing Plenary Opening

2. Sub-Groups reports

3. Decision to approve SG7 Winds Guidance document for FRAC release

4. TOR status

5. Future meetings plans and dates

6. Industry coordination

7. Action item review

8. Other business

9. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 14, 2016.
Mohannad Dawoud
Management & Program Analyst, Partnership Contracts Branch, ANG-A17, NextGen, Procurement Services Division, Federal Aviation Administration.

[FR Doc. 2016-27717 Filed 11-17-16; 8:45 am]

BILLING CODE 4910-13-P